DEPARTMENT OF THE INTERIOR

Bureau of Indian Affairs

Renewal of Agency Information Collection for Application for Job Placement and Training Services; Request for Comments

AGENCY: Bureau of Indian Affairs, Interior.

ACTION: Notice of request for comments.

SUMMARY: In compliance with the Paperwork Reduction Act of 1995, the Office of Indian Energy & Economic Development (IEED) is seeking comments on renewal of the Office of Management and Budget (OMB) approval for the collection of information for the Application for Job Placement and Training Services. The information collection is currently authorized by OMB Control Number 1076-0062, which expires on March 31, 2010.

DATES: Interested persons are invited to submit comments on or before February 22, 2011.

ADDRESSES: You may submit comments on the information collection to Lynn Forcia, Chief, Division of Workforce Development, Office of Indian Energy and Economic Development, 1951 Constitution Avenue, NW., Mail Stop SIB/20, Washington, DC 20240, e-mail Lynn.Forcia@bia.gov.

FOR FURTHER INFORMATION CONTACT: Lynn Forcia, Chief, Division of Workforce Development at (202) 219-5270.

SUPPLEMENTARY INFORMATION:

I. Abstract

The IEED is seeking renewal of the approval for the information collection conducted under 25 CFR part 26 to administer the job placement and training program, which provides vocational/technical training, related counseling, guidance, job placement services, and limited financial assistance to Indian individuals who are not less than 18 years old and who reside within the Department of the Interior (DOI) approved service areas. This information collection includes a form: BIA-8205, Application for Job Placement and/or Training Assistance. Approval for this collection expires March 31, 2010.

This renewal will adjust the responses and burden hours that are currently approved to correct for a database entry error that occurred in the last submission that quadrupled the number of responses and burden hours. The 60-day notice and 30-day notice for the current approval reflected the current number of responses and burden hours, as does this notice. The database will be corrected to reflect these figures through a change due to adjustment in agency estimate.

II. Request for Comments

The IEED requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, an individual need not respond to, a collection of information unless it has a valid OMB Control Number. This information collection expires March 31, 2010.

It is our policy to make all comments available to the public for review at the location listed in the ADDRESSES section during the hours of 9 a.m. and 5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0062.

Title: Application for Job Placement & Training Services.

Brief Description of Collection: Submission of this information allows DOI to administer the job placement and training program, which provides vocational/technical training, related counseling, guidance, job placement services, and limited financial assistance to Indian individuals who are not less than 18 years old and who reside within DOI approved service areas. The information collection includes an application for services, progress reports, and on-the-job training reports. Response is required to obtain a benefit.

Type of Review: Extension without change of a currently approved collection.

Respondents: Individuals seeking to participate, or currently participating, in the IEED job placement and training program.

Number of Respondents: 4,900 per year, on average.

Total Number of Responses: 4,900 per year, on average.

Frequency of Response: Once annually.

Estimated Time per Response: 30 minutes.

Estimated Total Annual Burden: 2,451 hours.

Dated: December 14, 2010.
Alvin Foster,
Acting Chief Information Officer—Indian Affairs.

[FR Doc. 2010-31982 Filed 12-20-10; 8:45 am]

BILLING CODE 4310-4J-P